DEPARTMENT OF ENERGY

Federal Energy Regulatory Commission

[Project No. 848-037]

Wells Rural Electric Company; Notice Soliciting Scoping Comments

Take notice that the following hydroelectric application has been filed with the Commission and is available for public inspection.

a. Type of Application: New Minor License.

b. Project No.: P-848-037.

c. Date filed: May 18, 2016.

d. Applicant: Wells Rural Electric Company.

e. Name of Project: Trout Creek Hydropower Project.

f. Location: On Trout Creek, near the town of Wells, Elko County, Nevada. The project's intake structure, pipeline, debris collection box, surge tank, and approximately 1,500 feet of penstock are located on federal land managed by the U.S. Forest Service.

g. Filed Pursuant to: Federal Power Act 16 U.S.C. 791(a)-825(r).

h. Applicant Contact: Lonnie Abbott, Manager of Loss Control and Risk Services, Wells Rural Electric Company, P.O. Box 365, Wells, Nevada 89835, (775) 752-1516 or labbott@wrec.coop.

i. FERC Contact: Alan Mitchnick, (202) 502-6074 or alan.mitchnick@ferc.gov.

j. Deadline for filing scoping comments:

The Commission strongly encourages electronic filing. Please file scoping comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-848-037.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application is not ready for environmental analysis at this time.

l. The existing Trout Creek project consists of: (1) An intake structure on a spring feeding Trout Creek; (2) a 14-inch-diameter, 715-foot-long steel pipe; (3) a debris collection box; (4) a 15-inch-diameter, 1,900-foot-long PVC pipe; (4) an 8-foot-diameter, 20-foot-high surge tank; (5) a 16-inch-diameter, 2,125-foot-long penstock; (6) a powerhouse with a 125-kilowatt turbine-generator unit; (7) a 5 to 7-foot-wide, 30-foot-long tailrace; (8) a 4,412-foot-long, 24.9-kilovolt transmission line; and (9) appurtenant facilities. The project is estimated to generate an average of 325,000 kilowatt-hours annually.

m. A copy of the application is available for review at the Commission in the Public Reference Room or may be viewed on the Commission's Web site at http://www.ferc.gov using the “eLibrary” link. Enter the docket number excluding the last three digits in the docket number field to address the document. For assistance, contact FERC Online Support. A copy is available for inspection and reproduction at the address in item h above.

n. You may also register online at http://www.ferc.gov/docs-filing/esubscription.asp to be notified via email of new filings and issuances related to this or other pending projects. For assistance, contact FERC Online Support.

o. Scoping Process.

The Commission staff intends to prepare a single Environmental Assessment (EA) for the Trout Creek Hydroelectric Project in accordance with the National Environmental Policy Act. The EA will consider both site-specific and cumulative environmental impacts and reasonable alternatives to the proposed action.

Commission staff does not propose to conduct any on-site scoping meetings at this time. Instead, we are soliciting comments, recommendations, and information, on Scoping Document 1 (SD1) issued on April 12, 2017.

Copies of SD1 outlining the subject areas to be addressed in the EA were distributed to the parties on the Commission's mailing list and the applicant's distribution list. Copies of SD1 may be viewed on the Web at http://www.ferc.gov using the “eLibrary” link. Enter the docket number excluding the last three digits in the docket number field to access the document. For assistance, call 1-866-208-3676 or for TTY, (202) 502-8659.

Dated: April 12, 2017.
Kimberly D. Bose,
Secretary.

[FR Doc. 2017-07998 Filed 4-19-17; 8:45 am]

BILLING CODE 6717-01-P